DEPARTMENT OF STATE

[Public Notice 6467]

Determination on U.S. Position on Proposed European Bank for Reconstruction and Development (EBRD) Facility in Serbia

Pursuant to section 658 of the Department of State, Foreign Operations, and Related Programs Appropriations Act, 2008 (Div. J, Pub. L. 110-161) (SFOAA), and Department of State Delegation of Authority Number 312, I hereby determine that the allocation of the EBRD's Sustainable Energy Credit Line for the Western Balkans, including Bosnia and Herzegovina, FYR Macedonia, Montenegro, and Serbia will lead to sustainable development and economic integration in the region and contribute to a stronger economy in the Western Balkans, including Serbia, directly supporting implementation of the Dayton Accords. I therefore waive the application of Section 658 of the SFOAA to the extent that provision would otherwise prevent the U.S. Executive Directors of the EBRD from voting in favor of these projects.

This Determination shall be reported to the Congress and published in the Federal Register.

Dated: November 21, 2008.
Marcie Ries,
Acting Assistant Secretary of State for European and Eurasian Affairs, Department of State.

[FR Doc. E8-30579 Filed 12-22-08; 8:45 am]

BILLING CODE 4710-23-P